DEPARTMENT OF DEFENSE

Office of the Secretary

Foreign Overseas Per Diem Rates

AGENCY: DoD, Per Diem, Travel and Transportation Allowance Committee.

ACTION: Notice of Revised Non-Foreign Overseas Per Diem Rates.

SUMMARY: The Per Diem, Travel and Transportation Allowance Committee is publishing Civilian Personnel Per Diem Bulletin Number 262. This bulletin lists revisions in the per diem rates prescribed for U.S. Government employees for official travel in Alaska, Hawaii, Puerto Rico, the Northern Mariana Islands and Possessions of the United States. AEA changes announced in Bulletin Number 194 remain in effect. Bulletin Number 262 is being published in the Federal Register to assure that travelers are paid per diem at the most current rates.

DATES: Effective Date: February 1, 2009.

SUPPLEMENTARY INFORMATION: This document gives notice of revisions in per diem rates prescribed by the Per Diem Travel and Transportation Allowance Committee for non-foreign areas outside the continental United States. It supersedes Civilian Personnel Per Diem Bulletin Number 261. Distribution of Civilian Personnel Per Diem Bulletins by mail was discontinued. Per Diem Bulletins published periodically in the Federal Register now constitute the only notification of revisions in per diem rates to agencies and establishments outside the Department of Defense. For more information or questions about per diem rates, please contact your local travel office. The text of the Bulletin follows:

Dated: January 15, 2009.
Patricia L. Toppings,
OSD Federal Register Liaison Officer, Department of Defense.

Maximum Per Diem Rates for Official Travel in Alaska, Hawaii, the Commonwealths of Puerto Rico and the Northern Mariana Islands and Possessions of the United States by Federal Government Civilian Employees

The only change in Civilian Bulletin 262 are updates to the rates for Fairbanks, Eielson AFB, Ft. Wainwright, Murphy Dome, Nome and Tanana Alaska.

Locality | Maximum lodging amount |  | M&IE rate |  | Maximum per diem rate | Effective date
| (A) | + | (B) | = | (C)
ALASKA:
ADAK | 120 |  | 79 |  | 199 | 07/01/2003
ANCHORAGE [INCL NAV RES]
05/01-09/15 | 181 |  | 97 |  | 278 | 04/01/2007
09/16-04/30 | 99 |  | 89 |  | 188 | 04/01/2007
BARROW | 159 |  | 95 |  | 254 | 05/01/2002
BETHEL | 139 |  | 87 |  | 226 | 01/01/2009
BETTLES | 135 |  | 62 |  | 197 | 10/01/2004
CLEAR AB | 90 |  | 82 |  | 172 | 10/01/2006
COLDFOOT | 165 |  | 70 |  | 235 | 10/01/2006
COPPER CENTER
05/01-09/30 | 125 |  | 84 |  | 209 | 01/01/2009
10/01-04/30 | 95 |  | 81 |  | 176 | 01/01/2009
CORDOVA
05/01-09/30 | 95 |  | 78 |  | 173 | 06/01/2007
10/01-04/30 | 85 |  | 77 |  | 162 | 06/01/2007
CRAIG
05/16-09/30 | 236 |  | 80 |  | 316 | 07/01/2008
10/01-05/15 | 151 |  | 71 |  | 222 | 07/01/2008
DELTA JUNCTION | 135 |  | 80 |  | 215 | 07/01/2008
DENALI NATIONAL PARK
06/01-08/31 | 135 |  | 80 |  | 215 | 01/01/2009
09/01-05/31 | 79 |  | 74 |  | 153 | 01/01/2009
DILLINGHAM
04/15-10/15 | 185 |  | 83 |  | 268 | 01/01/2009
10/16-04/14 | 169 |  | 82 |  | 251 | 01/01/2009
DUTCH HARBOR-UNALASKA | 121 |  | 86 |  | 207 | 01/01/2009
EARECKSON AIR STATION | 90 |  | 77 |  | 167 | 06/01/2007
EIELSON AFB
05/01-09/15 | 175 |  | 88 |  | 263 | 02/01/2009
09/16-04/30 | 75 |  | 79 |  | 154 | 02/01/2009
ELMENDORF AFB
05/01-09/15 | 181 |  | 97 |  | 278 | 04/01/2007
09/16-04/30 | 99 |  | 89 |  | 188 | 04/01/2007
FAIRBANKS
05/01-09/15 | 175 |  | 88 |  | 263 | 02/01/2009
09/16-04/30 | 75 |  | 79 |  | 154 | 02/01/2009
FOOTLOOSE | 175 |  | 18 |  | 193 | 06/01/2002
FT. GREELY | 135 |  | 80 |  | 215 | 07/01/2008
FT. RICHARDSON
05/01-09/15 | 181 |  | 97 |  | 278 | 04/01/2007
09/16-04/30 | 99 |  | 89 |  | 188 | 04/01/2007
FT. WAINWRIGHT
05/01-09/15 | 175 |  | 88 |  | 263 | 02/01/2009
09/16-04/30 | 75 |  | 79 |  | 154 | 02/01/2009
GLENNALLEN
05/01-09/30 | 125 |  | 84 |  | 209 | 01/01/2009
10/01-04/30 | 95 |  | 81 |  | 176 | 01/01/2009
HAINES | 109 |  | 75 |  | 184 | 01/01/2009
HEALY
06/01-08/31 | 135 |  | 80 |  | 215 | 01/01/2009
09/01-05/31 | 79 |  | 74 |  | 153 | 01/01/2009
HOMER
05/15-09/15 | 167 |  | 85 |  | 252 | 01/01/2009
09/16-05/14 | 79 |  | 78 |  | 157 | 01/01/2009
JUNEAU
05/01-09/30 | 149 |  | 85 |  | 234 | 01/01/2009
10/01-04/30 | 109 |  | 80 |  | 189 | 01/01/2009
KAKTOVIK | 165 |  | 86 |  | 251 | 05/01/2002
KAVIK CAMP | 150 |  | 69 |  | 219 | 05/01/2002
KENAI-SOLDOTNA
05/01-08/31 | 129 |  | 92 |  | 221 | 04/01/2006
09/01-04/30 | 79 |  | 87 |  | 166 | 04/01/2006
KENNICOTT | 259 |  | 94 |  | 353 | 01/01/2009
KETCHIKAN
05/01-09/30 | 140 |  | 83 |  | 223 | 01/01/2009
10/01-04/30 | 98 |  | 78 |  | 176 | 01/01/2009
KING SALMON
05/01-10/01 | 225 |  | 91 |  | 316 | 05/01/2002
10/02-04/30 | 125 |  | 81 |  | 206 | 05/01/2002
KLAWOCK
05/16-09/30 | 236 |  | 80 |  | 316 | 07/01/2008
10/01-05/15 | 151 |  | 71 |  | 222 | 07/01/2008
KODIAK
05/01-09/30 | 136 |  | 85 |  | 221 | 01/01/2009
10/01-04/30 | 99 |  | 82 |  | 181 | 01/01/2009
KOTZEBUE | 179 |  | 93 |  | 272 | 07/01/2008
KULIS AGS
05/01-09/15 | 181 |  | 97 |  | 278 | 04/01/2007
09/16-04/30 | 99 |  | 89 |  | 188 | 04/01/2007
MCCARTHY | 259 |  | 94 |  | 353 | 01/01/2009
MCGRATH | 165 |  | 69 |  | 234 | 10/01/2006
MURPHY DOME
05/01-09/15 | 175 |  | 88 |  | 263 | 02/01/2009
09/16-04/30 | 75 |  | 79 |  | 154 | 02/01/2009
NOME | 135 |  | 97 |  | 232 | 02/01/2009
NUIQSUT | 180 |  | 53 |  | 233 | 05/01/2002
PETERSBURG | 100 |  | 71 |  | 171 | 07/01/2008
PORT ALSWORTH | 135 |  | 88 |  | 223 | 05/01/2002
SELDOVIA
05/15-09/15 | 167 |  | 85 |  | 252 | 01/01/2009
09/16-05/14 | 79 |  | 78 |  | 157 | 01/01/2009
SEWARD
05/01-09/30 | 174 |  | 85 |  | 259 | 01/01/2009
10/01-04/30 | 99 |  | 77 |  | 176 | 01/01/2009
SITKA-MT. EDGECUMBE
05/01-09/30 | 119 |  | 80 |  | 199 | 01/01/2009
10/01-04/30 | 99 |  | 77 |  | 176 | 01/01/2009
SKAGWAY
05/01-09/30 | 140 |  | 83 |  | 223 | 01/01/2009
10/01-04/30 | 98 |  | 78 |  | 176 | 01/01/2009
SLANA
05/01-09/30 | 139 |  | 55 |  | 194 | 02/01/2005
10/01-04/30 | 99 |  | 55 |  | 154 | 02/01/2005
SPRUCE CAPE
05/01-09/30 | 136 |  | 85 |  | 221 | 01/01/2009
10/01-04/30 | 99 |  | 82 |  | 181 | 01/01/2009
ST. GEORGE | 129 |  | 55 |  | 184 | 06/01/2004
TALKEETNA | 100 |  | 89 |  | 189 | 07/01/2002
TANANA | 135 |  | 97 |  | 232 | 02/01/2009
TOGIAK | 100 |  | 39 |  | 139 | 07/01/2002
TOK
05/01-09/30 | 109 |  | 72 |  | 181 | 01/01/2009
10/01-04/30 | 99 |  | 71 |  | 170 | 01/01/2009
UMIAT | 350 |  | 35 |  | 385 | 10/01/2006
VALDEZ
05/01-09/30 | 159 |  | 88 |  | 247 | 01/01/2009
10/01-04/30 | 115 |  | 84 |  | 199 | 01/01/2009
WASILLA
05/01-09/30 | 151 |  | 89 |  | 240 | 01/01/2009
10/01-04/30 | 96 |  | 83 |  | 179 | 01/01/2009
WRANGELL
05/01-09/30 | 140 |  | 83 |  | 223 | 01/01/2009
10/01-04/30 | 98 |  | 78 |  | 176 | 01/01/2009
YAKUTAT | 105 |  | 76 |  | 181 | 01/01/2009
[OTHER] | 100 |  | 71 |  | 171 | 01/01/2009
AMERICAN SAMOA:
AMERICAN SAMOA | 122 |  | 73 |  | 195 | 12/01/2005
GUAM:
GUAM (INCL ALL MIL INSTAL) | 135 |  | 80 |  | 215 | 07/01/2008
HAWAII:
CAMP H M SMITH | 177 |  | 106 |  | 283 | 05/01/2008
EASTPAC NAVAL
COMP TELE AREA | 177 |  | 106 |  | 283 | 05/01/2008
FT. DERUSSEY | 177 |  | 106 |  | 283 | 05/01/2008
FT. SHAFTER | 177 |  | 106 |  | 283 | 05/01/2008
HICKAM AFB | 177 |  | 106 |  | 283 | 05/01/2008
HONOLULU | 177 |  | 106 |  | 283 | 05/01/2008
ISLE OF HAWAII:
HILO | 112 |  | 104 |  | 216 | 06/01/2007
ISLE OF HAWAII:
OTHER | 180 |  | 104 |  | 284 | 06/01/2007
ISLE OF KAUAI | 198 |  | 109 |  | 307 | 06/01/2007
ISLE OF MAUI | 160 |  | 101 |  | 261 | 05/01/2008
ISLE OF OAHU | 177 |  | 106 |  | 283 | 05/01/2008
KEKAHA PACIFIC
MISSILE RANGE FAC | 198 |  | 109 |  | 307 | 06/01/2007
KILAUEA MILITARY CAMP | 112 |  | 104 |  | 216 | 06/01/2007
LANAI | 269 |  | 124 |  | 393 | 06/01/2008
LUALUALEI NAVAL MAGAZINE | 177 |  | 106 |  | 283 | 05/01/2008
MCB HAWAII | 177 |  | 106 |  | 283 | 05/01/2008
MOLOKAI | 139 |  | 94 |  | 233 | 06/01/2008
NAS BARBERS POINT | 177 |  | 106 |  | 283 | 05/01/2008
PEARL HARBOR | 177 |  | 106 |  | 283 | 05/01/2008
SCHOFIELD BARRACKS | 177 |  | 106 |  | 283 | 05/01/2008
WHEELER ARMY AIRFIELD | 177 |  | 106 |  | 283 | 05/01/2008
[OTHER] | 112 |  | 104 |  | 216 | 05/01/2008
MIDWAY ISLANDS:
MIDWAY ISLANDS
INCL ALL MILITARY | 125 |  | 45 |  | 170 | 07/01/2008
NORTHERN MARIANA ISLANDS:
ROTA | 129 |  | 91 |  | 220 | 05/01/2006
SAIPAN | 121 |  | 98 |  | 219 | 06/01/2007
TINIAN | 138 |  | 71 |  | 209 | 07/01/2008
[OTHER] | 55 |  | 72 |  | 127 | 04/01/2000
PUERTO RICO:
AGUADILLA | 75 |  | 64 |  | 139 | 11/01/2007
BAYAMON | 195 |  | 82 |  | 277 | 10/01/2007
CAROLINA | 195 |  | 82 |  | 277 | 10/01/2007
CEIBA
05/01-11/30 | 155 |  | 57 |  | 212 | 08/01/2006
12/01-04/30 | 185 |  | 57 |  | 242 | 08/01/2006
FAJARDO [INCL ROOSEVELT RDS NAVS].
05/01-11/30 | 155 |  | 57 |  | 212 | 08/01/2006
12/01-04/30 | 185 |  | 57 |  | 242 | 08/01/2006
FT. BUCHANAN
[INCL GSA SVC CTR] | 195 |  | 82 |  | 277 | 10/01/2007
HUMACAO
05/01-11/30 | 155 |  | 57 |  | 212 | 08/01/2006
12/01-04/30 | 185 |  | 57 |  | 242 | 08/01/2006
LUIS MUNOZ MARIN IAP AGS | 195 |  | 82 |  | 277 | 10/01/2007
LUQUILLO
05/01-11/30 | 155 |  | 57 |  | 212 | 08/01/2006
12/01-04/30 | 185 |  | 57 |  | 242 | 08/01/2006
MAYAGUEZ | 109 |  | 77 |  | 186 | 11/01/2007
PONCE | 139 |  | 83 |  | 222 | 11/01/2007
SABANA SECA
[INCL ALL MILITARY] | 195 |  | 82 |  | 277 | 10/01/2007
SAN JUAN & NAV RES STA | 195 |  | 82 |  | 277 | 10/01/2007
[OTHER] | 62 |  | 57 |  | 119 | 01/01/2000
VIRGIN ISLANDS (U.S.):
ST. CROIX
04/15-12/14 | 135 |  | 92 |  | 227 | 05/01/2006
12/15-04/14 | 187 |  | 97 |  | 284 | 05/01/2006
ST. JOHN
04/15-12/14 | 163 |  | 98 |  | 261 | 05/01/2006
12/15-04/14 | 220 |  | 104 |  | 324 | 05/01/2006
ST. THOMAS
04/15-12/14 | 240 |  | 105 |  | 345 | 05/01/2006
12/15-04/14 | 299 |  | 111 |  | 410 | 05/01/2006
WAKE ISLAND:
WAKE ISLAND | 152 |  | 12 |  | 164 | 07/01/2008

[FR Doc. E9-1430 Filed 1-26-09; 8:45 am]

BILLING CODE 5001-06-M